DEPARTMENT OF COMMERCE

Foreign-Trade Zones Board

Docket 64-2008

Foreign-Trade Zone 8 - Toledo, Ohio Area, Application for Expansion

An application has been submitted to the Foreign-Trade Zones (FTZ) Board (the Board) by the Toledo-Lucas County Port Authority, grantee of FTZ 8, requesting authority to expand Site 1 at the Port of Toledo complex, within the Toledo/Sandusky Customs and Border Protection port of entry. The application was submitted pursuant to the provisions of the Foreign-Trade Zones Act, as amended (19 U.S.C. 81a-81u), and the regulations of the Board (15 CFR Part 400). It was formally filed on December 2, 2008.

FTZ 8 was approved by the Board on October 11, 1960 (Board Order 51, 25 FR 9909, 10/15/60) and expanded on January 22, 1973 (Board Order 92, 38 FR 3015, 1/31/73); on January 11, 1985 (Board Order 277, 50 FR 2702, 1/18/85); on August 19, 1991 (Board Order 532, 56 FR 42026, 8/26/91); on June 12, 2000 (Board Order 1102, 65 FR 37960, 6/19/00); on June 7, 2002 (Board Order 1231, 67 FR 41393, 6/18/02); and, on August 23, 2005 (Board Order 1408, 70 FR 51335, 8/30/05). The general-purpose zone project currently consists of six sites in the Toledo area: Site 1: (150 acres) - Overseas Cargo Center within the Port of Toledo complex; Site 2: (337 acres) - Toledo Express Airport, Swanton; Site 3: (10 acres) - First Choice Packaging warehouse, 1501 West State Street, Fremont; Site 4: (462 acres) - Cedar Point Development Park, Oregon; Site 5: (205 acres) Ohio Northern Global Distribution and Business Center, Walbridge; and, Site 6: (86 acres) at the Greenbelt Development Park, Toledo, Ohio.

The applicant is now requesting authority to expand Site 1 to include the Ironville Terminal (182 acres) located adjacent to the Overseas Cargo Center within the Port of Toledo Complex. The site was recently acquired by the Toledo Lucas County Port Authority and will be operated by Midwest Terminals of Toledo.

No specific manufacturing requests are being made at this time. Such requests would be made to the Board on a case-by-case basis.

In accordance with the Board's regulations, Claudia Hausler of the FTZ Staff is designated examiner to investigate the application and report to the Board.

Public comment is invited from interested parties. Submissions (original and 3 copies) shall be addressed to the Board's Executive Secretary at the address below. The closing period for their receipt is February 20, 2009. Rebuttal comments in response to material submitted during the foregoing period may be submitted during the subsequent 15-day period (to March 9, 2009).

A copy of the application and accompanying exhibits will be available for public inspection at each of the following locations:

U.S. Department of Commerce Export Assistance Center, 300 Madison Avenue, Suite 270, Toledo, Ohio 43604

Office of the Executive Secretary, Foreign-Trade Zones Board, U.S. Department of Commerce, Room 2111, 1401 Constitution Avenue, NW, Washington, DC 20230

For further information contact Claudia Hausler at Claudia_Hausler@ita.doc.gov or (202)-482-1379.

Dated: December 4, 2008.
Andrew McGilvray,
Executive Secretary.

[FR Doc. E8-30429 Filed 12-19-08; 8:45 am]

BILLING CODE 3510-DS-S